DEPARTMENT OF STATE

[Public Notice 6806]

Defense Trade Advisory Group; Notice of Open Meeting

Summary: The Defense Trade Advisory Group (DTAG) will meet in open session from 1 p.m. until 5 p.m. on Friday, December 4, 2009, at 1777 F Street, NW., Washington, DC. The membership of this advisory committee consists of private sector defense trade representatives, appointed by the Assistant Secretary of State for Political-Military Affairs, who advise the Department on policies, regulations, and technical issues affecting defense trade. The purpose of the meeting will be to discuss current defense trade issues and topics for further study.

Members of the public may attend this open session and will be permitted to participate in the discussion in accordance with the Chair's instructions. Members of the public may, if they wish, submit a brief statement to the committee in writing.

As seating is limited to 125 persons, those wishing to attend the meeting must notify the DTAG Executive Secretariat by COB Tuesday, December 1, 2009. Members of the public requesting reasonable accommodation must also notify the DTAG Executive Secretariat by that date. If notified after this date, the DTAG Secretariat will be unable to accommodate requests due to security requirements at the meeting location.

Each non-member observer or DTAG member needing building access that wishes to attend this plenary session should provide: His/her name; company or organizational affiliation; and phone number to the DTAG Secretariat contact person, Patricia Slygh, via e-mail at SlyghPC@state.gov. DTAG members planning to attend the plenary session should also notify the DTAG Secretariat contact person at the e-mail provided above.

For additional information, contact Patricia Slygh, PM/DDTC, SA-1, 12th Floor, Directorate of Defense Trade Controls, Bureau of Political-Military Affairs, U.S. Department of State, Washington, DC 20522-0112; telephone (202) 663-2830; FAX (202) 261-8199; or e-mail SlyghPC@state.gov.

Dated: November 5, 2009.
Robert S. Kovac,
Designated Federal Officer, Defense Trade Advisory Group, Department of State.

[FR Doc. E9-27322 Filed 11-12-09; 8:45 am]

BILLING CODE 4710-25-P